DEPARTMENT OF COMMERCE

National Oceanic and Atmospheric Administration

[RTID 0648-XE736]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Massachusetts Division of Marine Fisheries (MA DMF). Regulations under the Magnuson-Stevens Fishery Conservation and Management Act require publication of this notification to provide interested parties the opportunity to comment on applications for proposed EFPs.

DATES: Comments must be received on or before April 4, 2025.

ADDRESSES: You may submit written comments by the following method:

• Email: nmfs.gar.efp@noaa.gov. Include in the subject line “MA DMF herring genomics EFP”.

All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Ashley Trudeau, Fishery Resource Management Specialist, ashley.trudeau@noaa.gov, 978-281-9252.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.201(d)(1) | No harvest in Area 1A during January-May | To allow harvest in Area 1A during April and May.
§ 648.202(a)(1) | Restriction on midwater trawling from June 1 to September 30 in Area 1A | To allow use of midwater trawl in Area 1A during June-September.
§ 648.80(a)(3)(vi) | Restrictions on fishing in Gulf of Maine (GOM) and Georges Bank (GB) Exemption Areas | To allow use of small mesh bottom trawl in GOM and GB Regulated Mesh Areas.
§ 648.81(d)(1) | Seasonal gear restrictions in GOM Cod Protection Closures | To allow use of small mesh bottom trawl during April-November in GOM Cod Protection Closure Areas, excluding year-round groundfish closed areas.
§ 648.11, but not to include 648.11(m)(2) | Monitoring coverage | Sampling trips will be non-representative of the herring fishery and could negatively affect NEFOP data quality. As stated in 648.11(m)(2), the participating vessels are still required to submit pre-trip notifications.

Project Narrative

The MA DMF is requesting an EFP in support of a study developing a genomic tool to evaluate the genomic population structure of Atlantic herring. The current system of herring management sets area-specific annual catch limits (ACL) based on estimates of spawning component abundance and seasonal mixing rates. These estimates have not been updated since implementation of the Atlantic Herring Fishery Management Plan in 2000. This study is intended to improve scientific understanding of the contributions of genetically distinct sub-populations to herring stocks in U.S. waters and, therefore, may allow fisheries managers to update area-specific ACLs to reflect their spawning components.

Sampling for this study would begin upon approval and end by December 31, 2025. This EFP would authorize 3 fishing vessels to retain a total of 3,000 adult herring (approximately 970 pounds (lb); 440 kilograms (kg)) during the spring and fall spawning seasons from 5 spawning grounds: Eastern Gulf of Maine; Western Gulf of Maine; Jeffreys Ledge; the Great South Channel; and Georges Bank. The vessel sampling the Eastern Gulf of Maine and Western Gulf of Maine areas would primarily use midwater trawl gear with the option of switching to purse seine. The two vessels fishing Jeffreys Ledge, the Great South Channel, and Georges Bank would use small-mesh bottom trawl gear. These vessels are expected to spend approximately 20 days on the water to conduct sampling in 5 areas twice in both the fall and spring seasons. Spring sampling would take place in April and May, and fall sampling would occur from August to November. During each trip, the project team plans to conduct short, 5-60-minute tows to catch and retain 150 adult herring from each area sampled. If more than 150 herring are captured, the crew would continue to retain herring until they have no more space in their insulated cooler. The cooler would hold a maximum of approximately 300 herring, and any further captures would then be discarded.

After sampling, the research team would use low-coverage, whole-genome sequencing to identify a panel of small genetic differences that can reliably differentiate between herring sub-populations. Through peer-reviewed publication on their genomic tool and their findings regarding Atlantic herring genomic population structure, the research team may enable fishery managers to update area-specific ACLs to support the sustainable harvest of each spawning component.

Genomic tools require relatively small sample sizes. The project team proposes to harvest a total of 970 lb (440 kg) of Atlantic herring over no more than 20 sampling trips, which is 15 percent of the 6,600-lb (2,993-kg) possession limit associated with an Open Access Category D Permit. Because the project requires sampling spawning herring, vessels would sample during the areas' fall spawning closures. Although MA DMF plans to conduct tows between 30 and 60 minutes, vessel operators would plan to capture sufficient samples with the least amount of fishing effort possible, including tows as short as 5 minutes. Technologies such as net-mounted echosounders, for example, would be used to identify herring entering the net and, therefore, signal operators to end the tow early. Because of the low amount of fishing effort that this sampling would require, discards of incidentally captured species are expected to be relatively low, around 10,000 lb (4,536 kg) total over 20 trips. Based on observer data from the same areas and gears, the highest volume of bycatch is expected to be of silver hake, with expected discards of around 7,000 lb (3,176 kg).

The applicants state that the exemption allowing vessels to fish in GOM Cod Protection Closure Areas is necessary for sampling herring in the Jeffreys Ledge spawning area. Based on existing observer data and the project team's knowledge of herring spawning locations, they are expecting to cause nearly-zero Atlantic cod bycatch mortality during their sampling. Based on observer data collected from vessels fishing in the same statistical areas using the same gear, the research team expects this sampling to catch a total of 4.4 lb (2.0 kg) cod. In addition, the research team expects to catch herring in deeper water and softer substrate than where cod are abundant and/or spawning. Finally, the research team has previously measured a 93-percent survival rate for cod captured using short tows with bottom trawl gear (Zemeckis et al., 2019). Therefore, although a very small amount of cod catch is possible, the research application suggests that cod would be returned to the water as soon as possible and would be very likely to survive.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 17, 2025.
Karen H. Abrams,
Acting Director, Office of Sustainable Fisheries, National Marine Fisheries Service.

[FR Doc. 2025-04801 Filed 3-19-25; 8:45 am]

BILLING CODE 3510-22-P